FEDERAL COMMUNICATIONS COMMISSION

47 CFR Part 73

[MM Docket No. 91-137, RM-7494, FCC 00-409]

FM Broadcasting Services; Saltville, VA and Jefferson, NC.

AGENCY: Federal Communications Commission.

ACTION: Final rule.

SUMMARY: In MM Docket No. 91-137, the Commission denied an application for review filed by Smith Communications, licensee of Station WZJS(FM), Channel 264A, Banner Elk, North Carolina, of the Memorandum Opinion and Order, 61 FR 20,490, published May 7, 1996. The Commission denied review because it found no reason to depart from staff's reasoning set forth in the Memorandum Opinion and Order. It found that the staff had fully considered and rejected each of Smith's contentions that irregular terrain would prevent full signal coverage by the proposed upgraded Jefferson, North Carolina station. Additionally, since the release of the Memorandum Opinion and Order, a construction permit had been granted for an actual transmitter site at a location different from the theoretical one used previously. The Commission reexamined the expanded coverage area from that site and found the coverage to be adequate and of similar size to that predicted using the theoretical site. With this action, the proceeding is terminated.

FOR FURTHER INFORMATION CONTACT: J. Bertron Withers, Jr., Mass Media Bureau, (202) 418-2180.

SUPPLEMENTAL INFORMATION: This is a summary of the Memorandum Opinion and Order, MM Docket 91-137, adopted November 17, 2000, and released November 28, 2000. The full text of this Commission decision is available for inspection and copying during normal business hours in the Commission's Reference Information Center (room CY-A257), 445 12th Street, SW., Washington, DC 20554. The complete text of this decision may be also purchased from the Commission's copy contractor, International Transcription Service, 1231 20th Street, NW., Washington, DC 20036, (202) 857-3800.

Federal Communications Commission.
William F. Caton,
Deputy Secretary.

[FR Doc. 01-127 Filed 1-3-01; 8:45 am]

BILLING CODE 6717-01-U